DEPARTMENT OF DEFENSE

Department of the Navy

Meeting of the Naval Research Advisory Committee

AGENCY: Department of the Navy, DOD.

ACTION: Notice of closed meeting.

SUMMARY: The Naval Research Advisory Committee will meet to discuss basic and advanced research and technology. All sessions of the meetings will be devoted to briefings, discussions and technical examination of information related to the application of electric power to naval platforms, weapons and auxiliary systems; and life cycle technology insertion strategies for current and future Naval weapons platforms. These meetings will be closed to the public.

DATES: The meeting dates are Monday, October 1, 2001, through Friday, October 5, 2001, from 8 a.m. to 5 p.m.; Monday, October 8, 2001, through Thursday, October 11, 2001, from 8 a.m. to 5 p.m.; and Friday, October 12, 2001, from 8:30 a.m. to 12 p.m.

ADDRESSES: The meetings will be held at the Space and Naval Warfare Systems Center San Diego, 53560 Hull Street, San Diego, CA.

FOR FURTHER INFORMATION CONTACT: Diane Mason-Muir, Program Director, Naval Research Advisory Committee, 800 North Quincy Street, Arlington, VA 22217-5660, telephone number (703) 696-6769.

SUPPLEMENTARY INFORMATION: This notice of closed meetings is provided in accordance with the provisions of the Federal Advisory Committee Act (5 U.S.C. App. 2). All sessions of the meetings will be devoted to briefings, discussions and technical examination of information related to the application of electric power to naval platforms, weapons and auxiliary systems, including power network stability, integrated power systems, CVX power systems, CVNX/SSN power systems, fuel cells and superconductivity, high power microwave systems, rail gun technology, future radars, and lessons learned from the British Royal Navy Electric Ship Program; and life cycle technology insertion strategies for current and future Naval weapons platforms, including industrial technology insertion processes, submarine technologies, radar and communications systems, research and development programs, manufacturing technologies, avionics systems, simulation systems and venture capital initiatives.

These briefings and discussions will contain proprietary information and classified information that is specifically authorized under criteria established by Executive Order to be kept secret in the interest of national defense and are in fact properly classified pursuant to such Executive Order. The proprietary, classified and non-classified matters to be discussed are so inextricably intertwined as to preclude opening any portion of the meeting. In accordance with 5 U.S.C. App. 2, section 10(d), the Secretary of the Navy has determined in writing that the public interest requires that all sessions of the meeting be closed to the public because they will be concerned with matters listed in 5 U.S.C. section 552b(c)(1) and (4). Due to an unavoidable delay in administrative processing, the 15 days advance notice could not be provided.

Dated: October 9, 2001.
T.J. Welsh,
Lieutenant Commander, Judge Advocate General's Corps, U.S. Navy, Federal Register Liaison Officer.

[FR Doc. 01-25914 Filed 10-11-01; 10:57 am]

BILLING CODE 3810-FF-P